ENVIRONMENTAL PROTECTION AGENCY

[FRL-OW-FRL-7983-6]

Notice of Data Availability and Request for Data and Information to Develop Ambient Water Quality Criteria for Protection of Human Health for Atrazine and Alachlor

AGENCY: Environmental Protection Agency.

ACTION: Notice of data availability; request for scientific data and information.

SUMMARY: Section 304(a) of the Clean Water Act (CWA) requires the U.S. Environmental Protection Agency (EPA) to develop and publish, and from time to time revise, criteria for water accurately reflecting the latest scientific knowledge. Today, EPA is informing the public of data currently available to EPA and requesting data and information to develop Ambient Water Quality Criteria for Protection of Human Health for Atrazine and Alachlor. Lists of references available to the Agency for atrazine and alachlor will be posted on EPA's Office of Science and Technology's Home-page located at http://www.epa.gov/ost. In addition to seeking input on the references known to the Agency, EPA is also soliciting any additional pertinent data or information that may be useful in developing these criteria.

DATES: Submit data and information on or before November 14, 2005.

ADDRESSES: Data and information may be submitted electronically, by mail, or through hand deliver/courier. Follow the detailed instructions as provided in Unit B of the SUPPLEMENTARY INFORMATION section.

FOR FURTHER INFORMATION CONTACT: Dr. Amal Mahfouz, U.S. Environmental Protection Agency, Office of Water, Health and Ecological Criteria Division (4304T), 1200 Pennsylvania Avenue, NW., Washington, DC 20460; (202) 566-1114; Mahfouz.amal@epa.gov (Data on toxicity of atrazine and alachlor) or Dr. Tala Henry, U.S. Environmental Protection Agency, Office of Water, Health and Ecological Criteria Division (4304T), 1200 Pennsylvania Avenue, NW., Washington, DC 20460; (202) 566-1323; henry.tala@epa.gov (Data pertaining to bioaccumulation of atrazine and alachlor).

SUPPLEMENTARY INFORMATION:

I. General Information

A. How Can I Get Copies of Related Information?

1. Docket. EPA has established an official public docket for this Notice under Docket ID Nos. OW-2005-0008 for Atrazine and OW-2005-0009 for Alachlor. The official public docket is the collection of materials that is available for public viewing at the Water Docket in the EPA Docket Center, EPA West, Room B102, 1301 Constitution Ave., NW., Washington, DC. Although a part of official docket, public docket does not include Confidential Business Information (CBI) or other information whose disclosure is restricted by statute. The EPA Docket Center Public Reading Room is open from 8:30 a.m. to 4:30 p.m., Monday through Friday, excluding legal holidays. The telephone number for the Public Reading Room is (202) 566-1744, and the telephone number for the Water Docket is (202) 566-2426.

2. Electronic Access. You may access this Federal Register document electronically through the EPA Internet under the “Federal Register” listings at http://www.epa.gov/fedrgstr/.

An electronic version of the public docket is available through EPA's electronic public docket and comment system, EPA Dockets. You may use EPA Dockets at http://www.epa.gov/edocket/ to access the index listing of the contents of the official public docket and to access those documents in the public docket that are available electronically. Although not all docket materials may be available electronically, you may still access any of the publicly available docket materials through the docket facility identified in Section B.1. Once in the system, select “search,” then key in the appropriate docket identification number.

B. How and to Whom Do I Submit Data and Information?

You may submit data electronically, by mail, or through hand delivery/courier. To ensure proper receipt by EPA, identify the appropriate docket identification number in the subject line on the first page. Please ensure that your data are submitted within the specified period.

1. Electronically. If you submit data as prescribed below, EPA recommends that you include your name, mailing address, and an e-mail address or other contact information. Also include this contact information on the outside of any disk or CD ROM you submit, and in any cover letter accompanying the disk or CD ROM. This ensures that you can be identified as the submitter of the data and allows EPA to contact you in case EPA cannot read your data due to technical difficulties or needs further information on the substance of your data. EPA's policy is that EPA will not edit your data, and any identifying or contact information provided in the body of the data will be included as part of the data that is placed in the official public docket, and made available in EPA's electronic public docket. If EPA cannot read your data due to technical difficulties and cannot contact you for clarification, EPA may not be able to consider your comment.

i. EPA Dockets. Your use of EPA's electronic public docket to submit data to EPA electronically is EPA's preferred method for receiving data. Go directly to EPA Dockets at http://www.epa.gov/edocket, and follow the online instructions. Once in the system, select “search,” and then key in Docket ID Nos. OW-2005-0008 for Atrazine or OW-2005-0009 for Alachlor. The system is an “anonymous access” system, which means EPA will not know your identity, e-mail address, or other contact information unless you provide it along with your data.

ii. E-mail. Data may be sent by electronic mail (e-mail) to ow-docket@epa.gov, Attention Docket ID Nos. OW-2005-0008 for Atrazine and OW-2005-0009 for Alachlor. In contrast to EPA's electronic public docket, EPA's e-mail system is not an “anonymous access” system. If you send an e-mail directly to the Docket without going through EPA's electronic public docket, EPA's e-mail system automatically captures your e-mail address. E-mail addresses that are automatically captured by EPA's e-mail system are included as part of the comment that is placed in the official public docket, and made available in EPA's electronic public docket.

iii. Disk or CD ROM. You may submit data on a disk or CD ROM that you mail to the mailing address identified in Unit B.2. These electronic submissions will be accepted in WordPerfect or ASCII file format. Avoid the use of special characters and any form of encryption.

2. By Mail. Send an original and three copies of any data or information to: Water Docket, Environmental Protection Agency, Mailcode: 4101T, 1200 Pennsylvania Ave., NW., Washington, DC, 20460, Attention Docket ID Nos. OW-2005-0008 for Atrazine and OW-2005-0009 for Alachlor.

3. By Hand Delivery or Courier. Deliver your comments to: EPA Docket Center, (EPA/DC) EPA West, Room B102, 1301 Constitution Ave., NW., Washington, DC 20460, Attention Docket ID Nos. OW-2005-0008 for Atrazine and OW-2005-0009 for Alachlor. Such deliveries are only accepted during the Docket's normal hours of operation as identified in Section A.1.

II. Background

A. What Are National Recommended Water Quality Criteria?

B. What Type of Information Does EPA Want from the Public?

C. Where Can I Find More Information on EPA's Revised Process for Developing New or Revised Criteria?

A. What Are National Recommended Water Quality Criteria?

Section 304(a) of the Clean Water Act requires the EPA to develop, publish, and from time to time revise criteria for water that accurately reflect the latest scientific knowledge. Water quality criteria developed under section 304(a) are based solely on data and scientific judgements; economic impacts or the technological feasibility of meeting the criteria in ambient water are not considered. Section 304(a) criteria are guidance to States and Tribes for adopting water quality standards. The criteria also provide a scientific basis for EPA to develop federal regulations under section 303(c).

B. What Type of Information Does EPA Want From the Public?

EPA recently completed a comprehensive review of the available toxicity data for Atrazine and Alachlor. The list of pertinent references identified by the Agency for these two chemicals is available from EPA's electronic public docket under Docket ID Nos. OW-2005-0008 for Atrazine and OW-2005-0009 for Alachlor. EPA is soliciting additional pertinent new toxicity data or information it might use to develop the Ambient Water Quality Criteria for these two chemicals. In particular, EPA is interested in acquiring from the public any new data, not identified by the Agency's literature review, on the toxicity and human exposure to these chemicals from ambient water bodies as well as the bioaccumulation of each of these two chemicals in aquatic organisms to calculate trophic level specific bioaccumulation factors; in addition to seeking input on the references known to the Agency, EPA is also soliciting any additional pertinent data or information that may be useful in developing these criteria, particularly new data on the toxicity of these two chemicals. You should adequately document any data you submit. It should also contain enough supporting information to show that acceptable test procedures were used.

Please refer to the EPA's “Methodology for Deriving Ambient Water Quality Criteria for the Protection of Human Health—2000” (EPA-822-B-00-004, October 2000 and EPA-822-R-03-030, December 2003); for guidance on data suitability. These documents are available at the EPA website under using the following link, http://www.epa.gov/waterscience/criteria/humanhealth/method/index.html. It is also available from EPA's electronic public docket at http://www.epa.gov/edocket/.

C. Where Can I Find More Information on EPA's Revised Process for Developing New or Revised Criteria?

The Agency published detailed information about its revised process for developing and revising criteria in the Federal Register on December 10, 1998 (63 FR 68354) and in the EPA documents entitled “Methodology for Deriving Ambient Water Quality Criteria for the Protection of Human Health” (vol 1 on Risk Assessment, EPA-822-B-00-004, October 2000; and vol 2 on Bioaccumulation, EPA-822-R-03-030, December 2003). The revised process provides greater opportunities for public input and makes the criteria development process more efficient. A copy of the technical information that will be used to derive the atrazine and alachlor criteria are available in the EPA's Interim Registration Eligibility Document (IRED) for Atrazine (2003) that is available at http://www.epa.gov/oppsrrd1/reregistration/atrazine and the Registration Eligibility Document (RED) for Alachlor (1998) that is available at http://cfpub.epa.gov/oppref/rereg/status.cfm?show=rereg.

Dated: October 7, 2005.
Ephraim S. King,
Director, Office of Science and Technology.

[FR Doc. 05-20599 Filed 10-13-05; 8:45 am]

BILLING CODE 6560-50-U